DEPARTMENT OF HEALTH AND HUMAN SERVICES

National Institutes of Health

National Heart, Lung, and Blood Institute; Amended Notice of Meeting

Notice is hereby given of a change in the meeting of the National Heart, Lung, and Blood Institute Special Emphasis Panel, July 15, 2021, 11:00 a.m. to July 15, 2021, 05:00 p.m., National Institutes of Health, 6705 Rockledge Drive, Bethesda, MD, 20817 which was published in the Federal Register on June 10, 2021, FR DOC 2021-12142, 86 FR 30963.

The National Heart, Lung, and Blood Institute Special Emphasis Panel meeting is being amended to the change the meeting format from virtual to video assisted. The meeting is closed to the public.

Dated: June 17, 2021.
David W. Freeman,
Program Analyst, Office of Federal Advisory Committee Policy.

[FR Doc. 2021-13275 Filed 6-23-21; 8:45 am]

BILLING CODE 4140-01-P